DEPARTMENT OF THE TREASURY

Submission for OMB Review; Comment Request

April 19, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 29, 2001 to be assured of consideration.

Financial Crimes Enforcement Network (FinCEN)

OMB Number: New.

Form Number: None.

Type of Review: New collection.

Title: Money Service Business Program Response Form.

Description: This is a telephone survey to be conducted with previously-identified contacts at targeted money service businesses. Survey asks respondents to report methods used to educate employees about regulations and provide general organizational information.

Respondents: Business or other for-profit.

Estimated Number of Respondents: 600.

Estimated Burden Hours Per Respondent: 15 minutes.

Frequency of Response: Other (one time only).

Estimated Total Reporting Burden: 90 hours.

Clearance Officer: Lois K. Holland, (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports Management Officer.

[FR Doc. 01-10301 Filed 4-25-01; 8:45 am]

BILLING CODE 4810-31-P